DEPARTMENT OF ENERGY

Federal Energy Regulatory Commission

Sunshine Act Meeting

February 23, 2005.

The following notice of meeting is published pursuant to section 3(a) of the government in the Sunshine Act (Pub. L. 94-409), 5 U.S.C 552b:

Agency Holding Meeting: Federal Energy Regulatory Commission.

Date and Time: March 2, 2005, 10 a.m. Room 2C 888 First Street NE.

Place: Room 2C, 888 First Street NE., Washington DC 20426.

Status: Open.

Matters to be Considered: Agenda * Note.—Items listed on the agenda may be deleted without further notice.

Contact person for more Information: Magalie R. Salas, Secretary, Telephone (202) 502-8400.

For a recorded listing items stricken from or added to the meeting, call (202) 502-8627

This is a list of matters to be considered by the Commission. It does not include a listing of all papers relevant to the items on the agenda; however, all public documents may be examined in the Public Reference Room.

882nd—Meeting

Administrative Agenda

A-1

AD02-1-000; Agency Administrative Matters

A-2

AD02-7-000; Customer Matters, Reliability, Security and Market Operations

A-3

PL04-3-000; Natural Gas Quality Standards and Natural Gas Interchangeability

A-4

AD05-2-000; Information Assessment

A-5

RM02-14-000; Regulation of Cash Management Practices

RM02-14-001

Markets, Tariffs, and Rates—Electric

E-1

ER05-508-000; ISO New England, Inc. and New England Power Pool

E-2

ER05-428-000; New York Independent System Operator, Inc.

E-3

ER05-408-000; Otter Tail Power Company

E-4

OMITTED

E-5

ER05-18-000, ER05-18-001, ER05-20-000, ER05-20-001, ES05-6-000, ES05-7-000; New Dominion Energy Cooperative

ER05-309-000, ER05-309-001, ES05-5-000; Old Dominion Electric Cooperative

E-6

OMITTED

E-7

ER05-454-000; Bear Swamp Power Company, LLC

E-8

ER05-455-000; Bellows Falls Power Company, LLC

E-9

ER05-463-000; Mendota Hills LLC

E-10

OMITTED

E-11

ER05-481-000; Trimont Wind I LLC

E-12

ER04-1248-000; Union Light, Heat and Power Company and Cincinnati Gas & Electric Company

ER04-1248-001 and ER04-1247-000; Cincinnati Gas & Electric Company

E-13

ER05-419-000

ER05-419-001, and ER05-419-002; Telemagine, Inc.

E-14

ER99-1435-003, ER99-1435-004, ER99-1435-006, ER99-1435-008, and ER99-1435-009; Avista Corporation

ER96-2408-018, ER96-2408-019, ER96-2408-020, and ER96-2409-021; Avista Energy, Inc.

ER98-4336-007, ER98-4336-008, ER98-4336-009, and ER98-4336-010; Spokane Energy, LLC

ER00-1814-001, ER00-1814-002, ER00-1814-003, and ER00-1814-004; Avista Turbine Power, Inc.

E-15

ER97-1481-003, ER97-1481-004, and ER97-1481-007; Idaho Power Company

E-16

ER98-830-006, and ER98-830-010; Millennium Partners, L.P.

E-17

OMITTED

E-18

OMITTED

E-19

ER02-237-002; J. Aron & Company

ER03-1151-002; Power Receivable Finance, LLC

ER95-1739-022; Cogentrix Energy Power Marketing, Inc.

ER01-1819-003; Cogentrix Lawrence County, LLC

ER99-2984-004; Green Country Energy, LLC

ER02-2026-002; Quachita Power, LLC

ER99-3320-002; Rathdrum Power, LLC

ER03-922-003; Southaven Power, LLC

E-20

ER02-1420-002; Midwest Independent Transmission System Operator, Inc.

ER02-1420-005

E-21

OMITTED

E-35

OMITTED

E-36

OMITTED

E-37

EL04-112-000; The Governors of Connecticut, Maine, Massachusetts, New Hampshire, Rhode Island and Vermont

ER05-134-002; ISO New England Inc.

E-38

EL05-38-000; Oklahoma Municipal Power Authority v. American Electric Power Service Corp.

E-39

EL05-57-000; Williams Power Company, Inc. v. California Independent System Operator Corporation

E-40

OMITTED

E-41

OMITTED

E-42

OMITTED

E-43

OMITTED

E-44

EL01-19-002; and EL01-19-003; H.Q. Energy Services (U.S.), Inc. v. New York Independent System Operator, Inc.

EL02-16-002; PSEG; Energy Resources & Trade LLC v. New York Independent System Operator, Inc.

EL02-16-003

E-45

ER00-1969-019; New York Independent System Operator

EL00-57-003; Niagara Mohawk Power Corporation v. New York Independent System Operator

EL00-60-003; Orion Power New York GP, Inc. v New York Independent System Operator

EL00-63-003; New York State Electric & Gas Corporation v. New York Independent System Operator

EL00-64-003; Rochester Gas and Electric Corporation v. New York Independent System Operator

E-46

AC05-7-000; FirstEnergy Service Company

E-47

ER04-1098-000, and ER04-1098-001; Rolling Hills Generating, L.L.C.

E-48

ER04-414-000; Pacific Gas and Electric Company

E-49

ER04-375-019 and ER04-521-013; PJM Interconnection, L.L.C., Midwest Independent Transmission System Operator, Inc.

ER04-1072-003; PJM Interconnection, L.L.C., American Electric Power Service Corporation

ER04-364-001, ER04-364-008, and EL04-138-003; Commonwealth Edison Company and American Electric Power Service Corporation, PJM Interconnection, L.L.C., American Electric Power Services Corporation

E-50

ER03-563-032, ER03-563-033, ER03-563-036, ER03-563-037, ER03-563-040 and ER03-563-042; Devon Power, LLC, Middletown Power LLC, Montville Power LLC, Norwalk Power Marketing and NRG Power Marketing, Inc.

E-51

EL04-15-000, EL04-15-001, ER04-768-000; Texas New Mexico Power Company v. El Paso Electric Company

E-52

ER04-1075-000; Holland Energy, LLC

E-53

RT01-74-008; GridSouth Transco, L.L.C., Carolina Power & Light Company, Duke Energy Corporation and South Carolina Electric & Gas Company

E-54

ER04-961-001; Midwest Independent Transmission System Operator, Inc.

E-55

ER04-897-002; Commonwealth Edison Company

E-56

OMITTED

E-57

ER05-26-001; Mirant Kendall LLC and Mirant Americas Energy Marketing, L.P.

E-58

OMITTED

E-59

ER04-843-001; PPL Electric Utilities Corporation

E-60

OMITTED

E-61

OMITTED

E-62

ER03-407-005 and ER03-407-006; California Independent System Operator Corporation

E-63

EL01-93-010 and EL01-93-011; Mirant Americas Energy Marketing, L.P., Mirant New England, LLC, Mirant Kendall, LLC and Mirant Canal, LLC v. ISO New England Inc.

E-64

EL02-77-001; Puget Sound Energy, Inc.

E-65

EL04-63-001; East Texas Electric Cooperative, Inc.

E-66

OMITTED

E-67

OMITTED

E-68

ER04-727-003; Jersey Central Power & Light Company

E-69

ER04-829-002; PJM Interconnection, L.L.C. and Virginia Electric and Power Company

E-70

OMITTED

E-71

ER03-631-002; ISO New England Inc.

E-72

OMITTED

E-73

ER04-694-003 and ER04-694-004; Vermont Electric Cooperative, Inc.

E-74

EL03-37-001; Town of Norwood, Massachusetts v. National Grid USA, New England Electric System, Massachusetts Electric Company, and Narragansett Electric Light Company

E-75

ER04-717-000 and ER04-717-001; Orion Power Midwest, L.P.

E-76

EL02-123-006; Boston Edison Company

E-77

EL02-123-005 and ER02-170-005; Boston Edison Company

E-78

ER05-439-000; ISO New England Inc.

E-79

ER02-2397-002; Great Lakes Hydro America, LLC

E-80

ER05-294-000 and ER05-294-001; Westbank Energy Capital, LLC

Miscellaneous Agenda

M-1

RM02-4-003 and PL02-1-003; Critical Energy Infrastructure Information

M-2

OMITTED

Markets, Tariffs, and Rates—Gas

G-1

OR05-1-000; Enbridge Energy Company, Inc.

G-2

RP00-463-006; Williston Basin Interstate Pipeline Co.

G-3

RP05-172-000; CenterPoint Energy—Mississippi River Transmission Corporation

G-4

PR05-1-000; Nicor Gas

G-5

RP05-146-000; Northern Border Pipeline Company

G-6

RP05-106-001; Algonquin Gas Transmission, LLC

G-7

PR00-9-000; GulfTerra Texas Pipeline, L.P.

G-8

RP02-334-004; Northern Natural Gas Company

G-9

RP00-336-030, RP04-110-003 and RP04-251-002; El Paso Natural Gas Company

G-10

OMITTED

G-11

RP97-13-014; East Tennessee Natural Gas, LLC

G-12

AC04-30-001; Chevron Pipe Line Company

Energy Projects—Hydro

H-1

P-2574-032; Merimil Limited Partnership

H-2

P-2009-030; Virginia Electric Power Company d/b/a Dominion Virginia Power/Dominion North Carolina Power

H-3

P-2146-107; Alabama Power Company

H-4

P-1975-019, P-2055-014, P-2061-010, P-2777-013 and P-2778-014; Idaho Power Company

H-5

P-11925-003; Symbiotics, LLC

H-6

P-362-006; Ford Motor Company

H-7

P-460-032; City of Tacoma, Washington

H-8

P-9042-036 and P-9042-062; Gallia Hydro Partners and Rathgar Development Associates, LLC

Energy Projects—Certificates

C-1

OMITTED

C-2

OMITTED

C-3

CP04-424-000; Petal Gas Storage, L.L.C.

C-4

CP04-385-000; Transcontinental Gas Pipe Line Corporation and Crosstex CCNG Transmission, Ltd.

C-5

CP04-334-001; CenterPoint Energy—Mississippi River Transmission Corporation

Magalie R. Salas
Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection website at http://www.capitolconnection.gmu.edu and click on “FERC”.

[FR Doc. 05-4050 Filed 2-25-05; 4:05 pm]

BILLING CODE 6717-01-U